DEPARTMENT OF DEFENSE

Office of the Secretary

Office of Economic Adjustment; Announcement of Federal Funding Opportunity (FFO)

AGENCY: Office of Economic Adjustment (OEA), Department of Defense (DoD).

ACTION: Federal funding opportunity announcement.

SUMMARY: This notice announces an opportunity to request funding from the Office of Economic Adjustment (OEA), a Department of Defense (DoD) field activity, for community planning assistance to help communities respond to announced reductions in force structure and personnel. Planning funds are available to assist communities to respond to these cuts on behalf of local workforce, business, and other community impacts. Generally, this assistance is available to help communities to organize and undertake general economic analyses to better understand how the reductions may affect local housing, schools, and businesses, etc. This notice includes proposal submission requirements and instructions, eligibility requirements, and the selection criteria that will be used to evaluate proposals from eligible respondents. OEA grants to a state or local government may result from any proposal submitted under this notice, subject to the availability of appropriations.

SUPPLEMENTARY INFORMATION:

a. Federal Awarding Agency: Office of Economic Adjustment (OEA), Department of Defense (DoD).

b. Funding Opportunity Title: Community Adjustment Planning Assistance in Response to Reductions in Force Structure and Personnel.

c. Announcement Type: Initial Federal Funding Opportunity.

d. Catalog of Federal Domestic Assistance (CFDA) Number & Title: 12.604, Community Economic Adjustment Assistance for Reductions in Defense Spending.

e. Key Dates: Proposals will be considered on a continuing basis. OEA will evaluate all proposal documents and requests, and provide a response to the respondent within 30 business days of OEA's receipt of a final and complete proposal.

I. Period of Funding Opportunity

Proposals will be considered on a continuing basis, subject to the availability of appropriated funds, commencing on the date of publication of this notice.

II. Funding Opportunity

a. Program Description

OEA is a DoD Field Activity authorized under 10 U.S.C. 2391 to provide assistance to state or local governments, and instrumentalities of state and local governments, including regional governmental organizations. This assistance helps communities to plan and carry out community adjustments required by the impact of a reduction in Defense spending for Army force structure and personnel. Funded activities may include: Operate and maintain a community-based organization to represent an impacted area and its workers, businesses, and communities; prepare cost effective strategies and action plans for sustainable economic recovery; carry out a community adjustment and economic diversification program; and, plan and carry out local economic adjustment programs. Planning and other components include but are not limited to: Feasibility studies; organizational staffing, operating, and administrative expenses; redevelopment and economic development capacity building; public outreach; and other activities necessary for a community to capably respond to the adverse impacts of Defense spending reductions on local schools, housing markets, central business districts, etc. Assistance may not be used to reverse or to oppose announced Defense spending reductions.

Proposals will be evaluated against the eligibility criteria in Section II.c. and the selection criteria in Section II.e. of this notice by OEA staff. OEA will notify the respondent within thirty (30) days of receipt of a proposal whether their proposal was successful. The successful respondent will then be invited to submit an application through OEA's EADS 2 system. Additional details about the review and selection process are provided in Section II.e. of this FFO.

The final amount of each award will be determined by OEA based upon a review of a final grant application, and will be subject to the availability of appropriated funds.

b. Federal Award Information

Awards under this FFO will be issued in the form of a grant agreement. In accordance with 31 U.S.C. 6304 a grant is defined as the legal instrument reflecting a relationship between the United States Government and a State, local government, or other recipient when: (1) The principal purpose of the relationship is to transfer a thing of value to the State or local government or other recipient to carry out a public purpose of support or stimulation authorized by a law of the United States instead of acquiring (by purchase, lease, or barter) property or services for the direct benefit or use of the United States Government; and, (2) Substantial involvement is not expected between the executive agency and the State, local government, or other recipient when carrying out the activity contemplated in the agreement.

c. Eligibility Information

Awards resulting from this FFO are based on eligibility and the responsiveness of proposals.

i. Eligible Respondents

Eligible respondents are states, counties, municipalities, other political subdivisions of a state; special purpose units of a state or local government; other instrumentalities of a state or local government; and tribal nations. Personnel reductions must result in the loss of not less than: 2,000 military, civilian, and contractor personnel in an urban labor market area, or 1,000 military, civilian, or contractor personnel in the case of a non-urban labor market area. The Director, OEA, must also determine whether the losses constitute a direct and significant adverse consequence on a community and its residents. Where multiple jurisdictions may be affected by reduced spending and personnel reductions, one program of assistance will be available and the affected jurisdictions will need to combine their efforts into one responsive program.

Applicants for this assistance are to contact OEA and a project manager will be assigned to work with the applicant to determine eligibility for assistance under this program.

Respondents are urged to review the Program Information stated for CFDA Number 12.604, Community Economic Adjustment Assistance for Reductions in Defense Spending at http://www.cfda.gov, prior to preparing and/or submitting a proposal.

ii. Cost Sharing or Matching

Cost sharing is required. Generally, not less than 10% of a proposed project shall be derived from non-federal sources.

iii. Other Eligibility Information

Funding will be awarded to only one governmental entity on behalf of a region; therefore, applications on behalf of a multi-jurisdictional region should demonstrate a significant level of cooperation.

Respondents are encouraged to submit proposals that demonstrate appropriate leverage of all public and private resources and programs.

d. Proposal and Submission Information

i. Submission of a Proposal

Proposals should be submitted electronically at oea.ncr.OEA.mbx.ffo-submit@mail.mil with a courtesy copy to (james.p.holland8.civ@mail.mil). Include “Community Adjustment Planning Assistance in Response to Reductions in Defense Spending for Force Structure and Personnel” on the subject line of the message and request delivery/read confirmation to ensure receipt.

Proposals may also be mailed or hand-delivered to: Director, Office of Economic Adjustment, 2231 Crystal Drive, Suite 520, Arlington, VA 22202-3711.

ii. Content and Form of Proposal Submission

A proposal from a state on behalf of itself must demonstrate how the proposed grant would support local community adjustment planning and initiatives that assess the impact of a Defense spending reduction for force structure and personnel. The submission should state specifically the announced, or actual, force structure and personnel reduction numbers at their location. The submission should describe how the grantee will, operate and maintain a community-based organization to represent the impacted area and its workers, businesses, and help communities prepare cost effective strategies and action plans for sustainable economic recovery; and/or carry out a community adjustment and economic diversification program; plan and carry out local economic adjustment programs. Programs may include but are not limited to: Feasibility studies; organizational staffing, operating and administrative expenses; redevelopment and economic development capacity building; public outreach; and other activities necessary for a community to capably respond to the adverse impacts of Defense spending reductions on local schools, housing markets, and central business districts, etc. Assistance may not be used to seek to reverse or to oppose announced Defense spending reductions.

(a) Project Parties: A description of the partner jurisdictions, agencies, organizations, and their roles and responsibilities to carry out the proposed project. Letters of support may be included as attachment and will not count against the ten-page limit;

(b) Grant Funds and Other Sources of Funds: A summary of local needs, including the need for Federal funding, and an overview of all State and local funding sources, including the funds requested under this notice;

(c) Project Schedule: A sufficiently detailed project schedule, including milestones;

(d) Performance Milestones: A description of milestones to be tracked and evaluated over the course of the project to gauge performance of the project;

(e) Grants Management: Evidence of the respondent's ability and authority to manage Federal grant funds;

(f) Submitting Official: Documentation that the Submitting Official is authorized by the respondent to submit a proposal and subsequently apply for assistance.

The proposal should be emailed to the account identified in Section II.d, and in Microsoft Word or Adobe Acrobat PDF format. OEA reserves the right to ask any respondent to supplement the information in its proposal, but expects the proposal to be complete upon submission. To the extent practicable, OEA encourages respondents to provide data and evidence of all project merits in a form that is publicly available and verifiable.

iii. Unique Entity Identifier and System for Award Management (SAM)

Each respondent is required to: (a) Provide a valid Dun and Bradstreet Universal Numbering System (DUNS) number; (b) be registered in the System for Award Management (SAM) before submitting its application; and (c) continue to maintain an active SAM registration with current information at all times during which it has an active Federal award or an application or plan under consideration by a Federal awarding agency. OEA may not make a Federal award to a respondent until the respondent has complied with all applicable unique entity identifier and SAM requirements.

iv. Submission Dates and Times

Proposals will be considered on a continuing basis, subject to available appropriations, commencing on the date of publication of this notice. The end date for this program has not yet been determined. OEA will evaluate all proposals and provide a response to each respondent via email within 30 business days of OEA's receipt of a final, complete grant proposal.

v. Funding Restrictions

The following are unallowable activities under this grant program:

• Construction;

• Proposed activities for grants under this program should not duplicate nor replicate activities otherwise eligible for or funded through other Federal programs; and,

• International travel.

OEA reserves the right to decline to fund pre-Federal award costs. Final awards may include pre-Federal award costs at the discretion of OEA; however, this must be specifically requested in the grantee's final application.

vi. Other Submission Requirements

All respondents will submit all proposal materials electronically as an emailed attachment in Microsoft Word or Adobe Acrobat PDF format.

e. Application Review Information

i. Selection Criteria

(a) An appropriate and clear project design to address the need, problem, or issue identified;

(b) Evidence of an effective approach;

(c) The innovative quality of the proposed approach; and

(d) A reasonable proposed budget with a non-Federal match commitment and schedule for completion of the work program specified.

ii. Review and Selection Process

All proposals will be reviewed on their individual merit by a panel of OEA staff. OEA will notify the respondent within thirty (30) days of receipt of a proposal whether their proposal was successful. The successful respondent will then be instructed to submit an application through OEA's grants management system, EADS 2. OEA will assign a Project Manager to advise and assist successful respondents in the preparation of the application. Grant applications will be reviewed for their completeness and accuracy and a grant award notification will be issued, to the extent possible, within seven (7) business days from its receipt.

Unsuccessful respondents will be notified that their proposal was not selected for further action and funding, and may request a debriefing on their submitted proposal. When applicable, OEA may include information about other applicable federal grant programs in this communication. Requests for debriefing must be submitted in writing within 3 calendar days of notification of an unsuccessful proposal.

OEA is committed to conducting a transparent financial assistance award process and to publicizing information about funding decisions. Respondents are advised that their respective applications and information related to their review and evaluation may be shared publicly. Any proprietary information must be identified as such in the proposal and application. In the event of a grant award, information about project progress and related results may also be made publicly available.

f. Federal Award Administration Information

i. Federal Award Notices

In the event a grant is ultimately awarded, the successful respondent (Grantee) will receive a notice of award in the form of a Grant Agreement, signed by the Director, OEA (Grantor), on behalf of DoD. The Grant Agreement will be transmitted electronically or, if necessary, by U.S. mail.

ii. Administrative and National Policy Requirements

Any grant awarded under this program will be governed by the provisions of the OMB circulars applicable to financial assistance and DoD's implementing regulations in place at the time of the award. A Grantee receiving funds under this opportunity and any consultant or pass-thru entity operating under the terms of a grant shall comply with all Federal, State, and local laws applicable to its activities. Federal regulations that will apply to an OEA grant include administrative requirements and provisions governing allowable costs as stated in:

• 2 CFR part 200, “Uniform Administrative Requirements, Cost Principles, and Audit Requirements for Federal Awards”;

• 2 CFR part 1103, “Interim Grants and Cooperative Agreements Implementation of Guidance in 2 CFR part 200, “Uniform Administrative Requirements, Cost Principles, And Audit Requirements for Federal Awards”;

• 2 CFR part 25, “Universal Identifier and System for Award Management”;

• 2 CFR part 170, “Reporting Subaward and Executive Compensation Information”;

• 2 CFR part 180, OMB Guidelines to Agencies on Government-wide Debarment and Suspension (Nonprocurement), as implemented by DoD in 2 CFR part 1125, Department of Defense Nonprocurement Debarment and Suspension; and

• 32 CFR part 28, “New Restrictions on Lobbying”.

iii. Reporting

OEA requires periodic performance reports, an interim financial report for each 12 months a grant is active, and one final performance report for any grant. The performance reports will contain information on the following:

(a) A comparison of actual accomplishments to the objectives established for the period;

(b) reasons for slippage if established objectives were not met;

(c) additional pertinent information when appropriate;

(d) a comparison of actual and projected quarterly expenditures in the grant; and,

(e) the amount of Federal cash on hand at the beginning and end of the reporting period.

The final performance report must contain a summary of activities for the entire grant period. All required deliverables should be submitted with the final performance report.

The final SF 425, “Federal Financial Report,” must be submitted to OEA within 90 days after the end of the grant.

Any grant funds actually advanced and not needed for grant purposes shall be returned immediately to OEA. Upon award, OEA will include a schedule for reporting periods and report due dates in the Grant Agreement.

III. Federal Awarding Agency Contacts

For further information, to answer questions, or for help with problems, contact: Mr. James Holland (Program Director), Office of Economic Adjustment, 2231 Crystal Drive, Suite 520, Arlington, VA 22202-3711, Office: (703) 697 2188, Email: james.p.holland8.civ@mail.mil.

The OEA homepage address is: http://www.oea.gov.

IV. Other Information

a. Grant Award Determination

Selection of an organization under this FFO does not constitute approval of a grant for the proposed project as submitted. Before any funds are awarded, OEA may enter into negotiations about such items as program components, staffing and funding levels, and administrative systems in place to support implementation of the award. The amount of available funding may require the final award amount to be less than that originally requested by the respondent. If the negotiations do not result in a mutually acceptable submission, OEA reserves the right to terminate the negotiations and decline to fund an application. OEA further reserves the right not to fund any proposal received under this FFO.

In the event OEA approves an amount that is less than the amount requested, the respondent will be required to modify its grant application to conform to the reduced amount before execution of the grant agreement. OEA reserves the right to reduce or withdraw the award if acceptable modifications are not submitted by the respondent within 15 working days from the date the request for modification is made. Any modifications must be within the scope of the original application and approved by both the Grantee and OEA. OEA reserves the right to cancel any award for non-performance.

b. No Obligation for Future Funding

Amendment or renewal of an award to increase funding or to extend the period of performance is at the discretion of OEA.

c. Intellectual Property Rights

In the event of a grant award, the Grantee may copyright any work that is subject to copyright and was developed, or for which ownership was purchased, under an award. The Federal awarding agencies reserve a royalty-free, nonexclusive and irrevocable right to reproduce, publish, or otherwise use the work for Federal purposes, and to authorize others to do so. Such uses include, but are not limited to, the right to modify and distribute such products worldwide by any means, electronically or otherwise. The Grantee may not use Federal funds to pay any royalty or license fee for use of a copyrighted work, or the cost of acquiring by purchase a copyright in a work, where the Department has a license or rights of free use in such work. If revenues are generated through selling products developed with grant funds, including intellectual property, these revenues are program income and shall be added to the grant and must be expended for allowable grant activities.

Dated: March 15, 2016.
Aaron Siegel,
Alternate OSD Federal Register Liaison Officer, Department of Defense.

[FR Doc. 2016-06142 Filed 3-17-16; 8:45 am]

BILLING CODE 5001-06-P